DEPARTMENT OF THE INTERIOR

Bureau of Land Management

[AZ-010-00-1610-DE-002A]

Grand Canyon-Parashant National Monument Map and Boundary Description

AGENCY: Bureau of Land Management and National Park Service, Interior.

ACTION: Notice.

SUMMARY: This notice is to publish the official map and boundary description of Grand Canyon-Parashant National Monument, established by Presidential Proclamation on January 11, 2000.

FOR FURTHER INFORMATION CONTACT: Roger G. Taylor, Field Manager, Bureau of Land Management—Arizona Strip Field Office, 345 East Riverside Drive, St. George, Utah 84790. Telephone (435) 688-3200.

SUPPLEMENTARY INFORMATION: The Grand Canyon-Parashant National Monument is on federal lands in Mohave County, Arizona. The following description refers to the original map entitled “Grand Canyon-Parashant National Monument”, on file at the Arizona Strip Field Office, St. George, Utah.

Beginning at a point where the Nevada-Arizona State Line intersects a line 300 feet landward from the high water mark of Lake Mead in Section 6, T. 32 N., R. 16 W., Gila and Salt River Meridian, Arizona;

Then northerly along the Nevada-Arizona State line some 31 miles to the point where the aforementioned state line intersects the hydrologic divide between the Virgin River and Cedar Wash along the crest of Virgin Peak Ridge; Then easterly along said hydrologic divide some 2.75 miles across Lime Kiln Pass;

Then northeasterly along the hydrologic divide between Tom and Cull Wash and the Virgin River, passing over the summits of Lime Kiln and Lead Mine mountains, some 13.2 miles to a point offset 30 feet northwest of the centerline of Mohave County Road #299;

Then easterly along a line offset 30′ north of the centerline of Mohave County Road #299 some 3,000 feet to the intersection with the road to Cougar Spring, then bearing right and continuing along the offset of County Road #299 some 875 feet to an intersection with a 30-foot offset east of the centerline of BLM Road #1004 which is the exterior boundary of Paiute Wilderness;

Then north along the Paiute Wilderness boundary some 275 feet to a point 30 feet south of the centerline of BLM Road #1004, at an intersection of the eastern fork of the road to Cougar Spring;

Then easterly along the south line of the open road corridor through the Paiute Wilderness Area (approximately 30′ south of the centerline of BLM Road #1004) some 6.5 miles to a point where the road corridor intersects the exterior boundary of Paiute Wilderness;

Then southeasterly along the wilderness boundary, (which passes Black Rock Lookout and follows a 100-foot offset east of the centerline of the Lookout access road, then a 100-foot offset south of the centerline of BLM Road #1004), some 6.7 miles to a point where BLM Road #1004 intersects with BLM Road #1051;

Then southerly continuing along the Paiute Wilderness boundary (offset 30′ west of the centerline of BLM Road #1051) for approximately 2,150′ to the hydrologic divide between Grand Wash and the Virgin River tributaries; Then southeasterly and southerly along said hydrologic divide some 22.4 miles to the point where the divide intersects with a line offset 30 feet east of the centerline of an unnumbered road in SW¼ of Section 7, T. 36 N., R. 12 W.;

Then south and southeast along a line offset 30 feet east of the centerline of said road some 5.8 miles through sections 7, 18 and 30, T. 36 N., R. 12 W., and sections 13 and 24, T. 36 N., R. 13 W., to a point some 500′ west of the section line between sections 32 and 33, T. 36 N., R. 12 W.;

Then south some 500′ to the eastern rim of Hidden Canyon; Then southerly along said rim some 5.7 miles to a point offset 100′ northwest of the centerline of Mohave County Road #103;

Then northeasterly along a line offset 100′ northwest of the centerline of Mohave County Road #103 some 1.3 miles to a point where this line intersects the section line between sections 15 and 22, T. 35 N., R. 12 W.;

Then easterly along said section line some 780 feet;

Then southeasterly toward the crest of a small ridge on the northwest side of Poverty Mountain in the NE¼, NE¼, Section 22, T. 35 N., R. 12 W., and continuing along the northern rim of Poverty Mountain some 10.9 miles to the head of an unnamed wash west of the center of Section 33, T. 35 N., R. 11 W.;

Then easterly along a line offset 30 feet south of the center of said wash some 1.2 miles to the intersection of a 30-foot offset east of an unnumbered road in the southwest corner of Section 34, T. 35 N., R. 11 W.;

Then south along a line offset 30 feet east of said road some 2000′ to a point offset 30 feet north of the centerline of BLM Road #1018;

Then easterly along a line offset 30 feet north of BLM Road #1018 some 1.8 miles to a point offset 30 feet west of the centerline of Ivanpatch Wash;

Then south along a line offset 30 feet west of the center of Ivanpatch Wash across the road some 75 feet to a point offset 30 feet south of the centerline of BLM Road #1018;

Then easterly along a line offset 30 feet south of said road some 2,000 feet to a departure point some 350 feet northwest of the center of Ivanpatch Pond #2;

Then, from said departure point, counterclockwise around the south and east of Ivanpatch Pond #2, some 1,400 feet to a point offset 30 feet south of the centerline of BLM Road #1018 where said road crosses an unnamed wash in SW¼, SE¼ of Section 36, T. 35 N., R. 11 W.;

Then easterly along a line offset 30 feet south of the centerline of Road #1018 some 0.5 miles to a point of intersection with the east boundary of Section 36, T. 35 N., R. 11 W.;

Then south along said section line approximately ¼ mile to the common corner of Tps. 34 and 35 N., Rs. 10 and 11 W.;

Then east along the section line between Section 6, T. 34 N., R. 10 W. and Section 31, T. 35 N., R. 10 W., some ¼ mile to the W. 1/16 section corner of sections 6 and 31, Tps. 34 and 35 N., R. 10 W.;

Then in T. 34 N., R. 10 W., south on the N. and S. centerline of the NW. ¼ section 6, to the NW. 1/16 corner, then east on the E. and W. centerline of the NW ¼, to the center north 1/16 corner section 6, then south on the N. and S. centerline section 6, to the center south 1/16 corner section 6, then east on the E. and W. centerlines of the SE ¼, section 6 and the SW ¼ section 5 to the SW. 1/16 corner section 5, then north on the N. and S. centerline of the W. ½ of section 5 to the W. 1/16 corner of sections 5 and 32, Tps. 34 and 35 N., R. 10 W.;

Then east on the line between Tps. 34 and 35 N., R. 10 W., to the corner of sections 3, 4, 33 and 34;

Then in T. 34 N., R. 10 W., south between sections 3 and 4, and sections 9 and 10, to the ¼ corner of sections 9 and 10, east on the E. and W. centerline of section 10, to the ¼ corner of sections 10 and 11, then north between sections 10 and 11, then east between sections 2 and 11 and sections 1 and 12, then north along the east line of section 1;

Then north between sections 31 and 36, and sections 25 and 30, T. 35 N., Rs. 9, 10, W., to a point offset 100 feet north of the centerline of Mohave Country Road #5;

Then easterly along a line offset 100 feet north from the centerline of County Road #5 some 4 miles to a point where the country road enters privately-owned land on the North and South center line of Section 22, T. 35 N., R. 9 W.;

Then south along the North-South center line (private land boundary) some 3,700 feet to the center of Section 27, T. 35 N., R. 9 W.;

Then east along the E. and W. centerline (private land boundary) some 0.5 mile to the section line between Sections 26 and 27, T. 35 N., R. 9 W. and north along the line between Sections 26 and 27, some 1,800 feet to a point 100 feet north of Mohave County Road #5;

Then easterly along a line offset 100 feet north of the centerline of County Road #5 some 0.75 miles to a point where the county road enters privately-owned land in the east one-half of the NE¼ of Section 26, T. 35 N., R. 9 W.;

Then south along the private land boundary some 0.5 mile to the section line between Sections 26 and 35, east on the line between sections 26 and 35, and sections 25 and 36, some 1.25 miles to the common corner of Sections 25, 30, 31 and 36, T. 35 N., Rs. 8 and 9, W., south some 0.5 miles to the ¼ corner of sections 31 and 36, T. 34 N., Rs. 8 and 9 W., east to the center ¼ section 31, north on the N. and S. centerline of sections 30 and 31, some 0.9 mile to a point 100 feet north of Mohave County Road #5;

Then easterly along a line offset 100 feet north of the centerline of Mohave County Road #5 some 3,000 feet to a point where the county road adjoins the private land boundary on the section line between Sections 29 and 30, T. 35 N., R. 8 W.;

Then south and east along the private land boundary some 0.5 miles to the North and South center line of Section 29, and north along N. and S. centerlines of sections 20 and 29 some 0.9 miles to a point 30 feet northwest of Mohave County Road #1530 where said road veers northeast from the private land boundary;

Then northeasterly along a line offset 30 feet north and west of Mohave County Road #1530 some 2 miles to a point where said road enters privately-owned land on the section line between Sections 9 and 16, T. 35 N., R. 8 W.;

Then east on the line between sections 9 and 16, and 10 and 15, some 1.3 miles to the common corner of sections 10, 11, 14 and 15, T. 35 N., R. 8 W., and north on the line between sections 10 and 11, and sections 2 and 3, some 1.5 miles to a point offset 100 feet north of the centerline of Mohave County Road #717;

Then easterly along a line offset 100 feet north of Mohave County Road #717 some 6 miles to a point offset 100 feet east of the centerline of Mohave County Road #5, which is the intersection of Mohave County Roads #717 and #5 in the SW¼ of Section 34, T. 36 N., R. 7 W.;

Then southeasterly along a line offset 100 feet east of the centerline of County Road #5 some 1,300 feet to the section line between Sections 34 and 3, Ts. 35, 36 N., R. 7 W.;

Then east along the section line between Sections 34 and 3, Ts. 35, 36 N., R. 7 W. to a point some 1,495 feet east of the north quarter corner of Section 3, T. 35 N., R. 7 W.;

Then southeasterly from said point some 500 feet to a point on the rim on the east side of Toroweap Valley at an elevation of 5,800 feet in the SE¼NW¼NE¼NE¼ of Section 3, T. 35 N., R. 7 W.;

Then southerly along the east rim of Toroweap Valley some 6 miles to a geographic point at the intersection of Toroweap Valley and Broad Canyon at an elevation of approximately 5,680 feet in Section 28, T. 35 N., R. 7 W.;

Then easterly along the northern rim of Broad Canyon some 3.6 miles to a point southwest of two small reservoirs in the northeast corner of Section 23, T. 35 N., R. 7 W.;

Then southerly across the wash to a point of equal elevation to the previous point and along the rim southwesterly and easterly to a point where said rim intersects with the boundary of Grand Canyon National Park on the section line between Sections 23 and 26, T. 35 N, R. 7 W.;

Then southerly and westerly along the Grand Canyon National Park boundary to a point 300 feet landward of the high water level of Lake Mead (Bureau of Reclamation withdrawal boundary) in Section 30, T. 32 N., R. 15 W., which is just north of Colorado River mile 277;

Then northerly and westerly along the Bureau of Reclamation withdrawal boundary, which is a line 300 feet landward of the high water mark of Lake Mead, to the point of beginning.

Note: Roads referenced in this document are as depicted on the following 7.5 minute topographic quadrangle maps (with date of publication): Poverty Knoll (1971), Poverty Spring (1971), Last Chance Canyon (1971), Jones Hill (1971), Mt. Trumbull NW (1967), Mt. Trumbull NE (1967), Mustang Knoll (1979), Wolf Hole Mtn. West (1979), St. George Canyon (1979) and Mt. Bangs (1985).

Becky J. Hammond,
Acting Field Manager.

BILLING CODE 4310-32-P

[FR Doc. 00-13863 Filed 6-1-00; 8:45 am]

BILLING CODE 4310-32-C